DEPARTMENT OF HOMELAND SECURITY

Coast Guard

33 CFR Part 100

[Docket No. USCG-2013-0327]

Special Local Regulation; Regattas and Marine Parades in the COTP Lake Michigan Zone—Chinatown Chamber of Commerce Dragon Boat Race, Chicago, IL

AGENCY: Coast Guard, DHS.

ACTION: Notice of enforcement of regulation.

SUMMARY: The Coast Guard will enforce the special local regulation on the South Branch of the Chicago River for the Chinatown Chamber of Commerce Dragon Boat Race in Chicago, Illinois. This regulated area will be enforced from 8 a.m. until 5 p.m. on June 24, 2017. This action is necessary and intended to ensure safety of life and property on navigable waters prior to, during, and immediately after the Dragon Boat Race. During the enforcement period, no vessel may enter, transit through, or anchor within the regulated area without the approval from the Captain of the Port or a designated representative.

DATES: The regulation in 33 CFR 100.909 will be enforced from 8 a.m. until 5 p.m. on June 24, 2017.

FOR FURTHER INFORMATION CONTACT: If you have questions about this notice of enforcement, call or email LT Lindsay Cook, Waterways Management Division, Marine Safety Unit Chicago, at 630-986-2155, email address Lindsay.N.Cook@uscg.mil.

SUPPLEMENTARY INFORMATION: The Coast Guard will enforce a special local regulation in 33 CFR 100.909 from 8 a.m. until 5 p.m. on June 24, 2017, for the Chinatown Chamber of Commerce Dragon Boat Race. This action is being taken to provide for the safety of life on a navigable waterway during the regatta. The Chinatown Chamber of Commerce Dragon Boat Race; Chicago, IL, § 100.909, specifies the location of the regulated area as all waters of the South Branch of the Chicago River from the West 18th St. Bridge at position 41°51′28″ N., 087°38′06″ W. to the Amtrak Bridge at position 41°51′20″ N., 087°38′13″ W. (NAD 83). During the enforcement period, no vessel may transit this regulated area without approval from the Captain of the Port Lake Michigan or a designated representative.

Vessels that obtain prior approval to transit the regulated area are required to operate at a no wake speed to reduce wake to a minimum, and in a manner which will not endanger participants in the event or any other craft. These rules shall not apply to participants in the event or vessels of the patrol operating in the performance of their assigned duties. The Captain of the Port or a designated representative may direct the anchoring, mooring, or movement of any boat or vessel within the regulated area.

This notice of enforcement is issued under authority of 33 CFR 100.909, Chinatown Chamber of Commerce Dragon Boat Race; Chicago, IL and 5 U.S.C. 552(a). The Coast Guard will provide the maritime community with advance notice of the enforcement of this special local regulation via Broadcast Notice to Mariners and Local Notice to Mariners. The Captain of the Port Lake Michigan, or a designated on-scene representative may be contacted via Channel 16, VHF-FM.

Dated: March 31, 2017.
A.B. Cocanour,
Captain, U.S. Coast Guard, Captain of the Port Lake Michigan.

[FR Doc. 2017-08501 Filed 4-26-17; 8:45 am]

BILLING CODE 9110-04-P